DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on a proposal to request monthly reporting of natural gas import and export information. This reporting would be in addition to the existing information collection requirements for Form FE-746R, “Import and Export of Natural Gas.”

DATES: Comments must be filed by September 19, 2003. If you anticipate difficulty in submitting comments within that period, contact the person listed below as soon as possible.

ADDRESSES: Send comments to Yvonne Caudillo. To ensure receipt of the comments by the due date, submission by FAX (202-586-4062) or e-mail (yvonne.caudillo@hq.doe.gov) is recommended. Ms. Caudillo's mailing address is Office of Fossil Energy, FE-34, Forrestal Building, U.S. Department of Energy, Washington, DC 20585. Ms. Caudillo may be contacted by telephone at (202) 586-4587.

FOR FURTHER INFORMATION CONTACT: Requests for additional information or copies of any forms and instructions should be directed to Ms. Caudillo at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

DOE's Office of Fossil Energy (FE) is delegated the authority to regulate natural gas imports and exports under section 3 of the Natural Gas Act of 1938, 15 U.S.C. 717b. In order to carry out its delegated responsibility, FE requires those persons seeking to import or export natural gas to file an application containing basic information about the scope and nature of the proposed import/export activity. Historically FE has collected information on a quarterly basis regarding import and export transactions. That information has been used to ensure compliance with any terms and conditions of authorization. In addition, the data are used to monitor North American natural gas trade, which in turn enables the Federal Government to perform market and regulatory analyses; improve the capability of industry and the Government to respond to any future energy-related supply problems; and keep the general public informed of international natural gas trade.

II. Current Actions

DOE will be requesting a revision of its existing information reporting requirements for imports and exports of natural gas (Form FE-746R). The Department of Energy (DOE) is undertaking an ambitious Natural Gas Data Collection Initiative to improve the way the DOE gathers and disseminates information about the use and origin of natural gas supplies in the U.S. Under this Initiative, DOE plans to collect critical natural gas information (i.e., country of origin, international point of entry/exit, and volume imported/exported) monthly, instead of waiting until the end of each quarter to collect any import/export information. To facilitate timely reporting DOE will establish an Internet-based reporting option for the monthly reporting. Also, DOE will treat all monthly information as confidential.

Over the last decade, demand for natural gas increased significantly and demand is projected to continue increasing. With these increases, there is the possibility of periodic price spikes and market dislocations. In a tight and volatile natural gas market, consumers and producers must have the best information possible regarding the availability of supply and the forces that drive prices in order to make informed decisions about their consumption and production activities.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for the monthly reporting of natural gas imports/exports is estimated to average three hours per response. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).
Issued in Washington, DC, July 14, 2003.
Jay H. Casselberry,
Agency Clearance Officer, Statistics and Methods Group, Energy Information Administration.

[FR Doc. 03-18444 Filed 7-18-03; 8:45 am]

BILLING CODE 6450-01-P